OFFICE OF PERSONNEL MANAGEMENT

Privacy Act of 1974; Computer Matching Programs, Office of Personnel Management/Department of Labor, Office of Workers' Compensation Programs

AGENCY: Office of Personnel Management (OPM).

ACTION: Publication of notice of computer matching to comply with Public Law 100-503, the Computer Matching and Privacy Act of 1988.

SUMMARY: OPM is publishing notice of its computer matching program with the Department of Labor, Office of Workers' Compensation Programs (OWCP) to meet the reporting and publication requirements of Public Law 100-503. The purpose of this match is to identify and/or prevent erroneous payments under the Civil Service Retirement Act (CSRA) or the Federal Employees' Retirement System Act (FERSA) and the Federal Employees' Compensation Act (FECA). The match will identify individuals receiving prohibited benefits simultaneously under CSRA or FERSA and the FECA. All three laws prohibit the receipt of certain simultaneous payments covering the same period of time.

The match will involve the OPM system of records published as OPM CENTRAL-1, Civil Service Retirement and Insurance Records at 64 FR 54930 October 8, 1999, as amended May 3, 2000, (65 FR 25775) and the Department of Labor system of records published as DOL/GOVT-1, entitled “Office of Workers’ Compensation Programs, Federal Employees' Compensation Act File” at 67 FR 16817, on April 8, 2002.

DATES: The matching program will begin in October 2003, or 40 days after agreements by the parties participating in the match have been submitted to Congress and the Office of Management and Budget, whichever is later. The matching program will continue for 18 months from the beginning date and may be extended an additional 12 months thereafter. The data exchange will begin at a date mutually agreed upon between OPM and OWCP after October 2003, unless comments on the match are received that result in cancellation of the program. Subsequent matches will take place semi-annually on a recurring basis until one of the parties advises the other in writing of its intention to reevaluate, modify and/or terminate the agreement.

ADDRESSES: Send comments to Maurice O. Duckett, Assistant Director for RIS Support Services Program, Office of Personnel Management, Room 4H28, 1900 E. Street NW., Washington, DC 20415.

FOR FURTHER INFORMATION CONTACT: James Sparrow, (202) 606-1803.

SUPPLEMENTARY INFORMATION: The computer matching program between OPM and OWCP will involve comparison of beneficiaries under the FECA and the CSRA or the FERSA. The match will identify beneficiaries receiving payment of compensation for wage loss or death under the FECA and those receiving retirement or death benefits under the CSRA or FERS covering the same period of time.

The concurrent receipt of benefits under the FECA based on wage loss and under the CSRA or FERSA for retirement, or under the FECA, CSRA, or FERSA based on the death of a Federal employee, is prohibited. OPM has the responsibility to monitor retirement annuity and survivor benefits paid under the retirement laws to ensure that its beneficiaries are not receiving benefits under the FECA which are prohibited during receipt of benefits under the CSRA or FERSA. Similarly, it is OWCP's responsibility to ensure that Federal employees or dependents of deceased Federal employees receiving benefits under the FECA are not also receiving benefits under CSRA or FERSA which are prohibited.

By comparing the information received through this computer matching program on a regular basis, the agencies will be able to make a timely and more accurate adjustment in their benefit payments. The match will prevent overpayments, fraud and abuse, thus assuring that benefit payments are proper under the appropriate Acts.

Additional information regarding the matching program, including the authority for the program, a description of the matches, the personnel records to be matched, security safeguards, and plans for the disposal of records following completion of the match are provided in the text below.

Office of Personnel Management
Kay Coles James,
Director.

Matching of Records Between Office of Workers' Compensation Programs and the Office of Personnel Management

A. Authority. The Civil Service Retirement Act (CSRA), 5 U.S.C. 8331, et seq; the Federal Employees' Retirement System Act (FERSA), 5 U.S.C. 8401, et seq; and the Federal Employees' Compensation Act (FECA), 5 U.S.C. 8101, et seq.

B. Description of Computer Matching Program. OPM pays annuities or survivor benefits to individuals who also may receive benefits under the FECA. OPM's responsibility as the administrator of CSRA and the FERSA is to assure that such benefit payments are proper and to prevent fraud and abuse. The computer matching program is an efficient method of determining whether these individuals are receiving benefits simultaneously from both OPM and OWCP which is prohibited by law.

OWCP will provide OPM with extracts of its payment files containing data (names, social security numbers, payee relationship codes, addresses, zip codes, and payment data) needed to identify the individual and determine if he or she is receiving benefits from both organizations at the same time. OPM will match OWCP's extract of its payment files against its payment records for the same dates to determine if benefits were being paid for the same day by both agencies. OPM will provide OWCP with a list of valid matches. Both organizations will detect, identify, and follow-up on payment of prohibited dual benefits. An individual identified as receiving prohibited dual benefits will be offered an opportunity to contest the findings and proposed actions and the opportunity to elect the benefits he or she wishes to receive. This due process will be provided to the individual before any payment adjustments are made.

C. Personnel Records to be Matched. The respective OPM and OWCP system of records cited above, which contain payment data on beneficiaries, will be matched.

D. Privacy Safeguards and Security. The personal privacy of the individuals whose names are included in the tapes is protected by strict adherence to the provisions of the Privacy Act of 1974 and OMB's Guidance Interpreting the Provisions of Pub. L. 100-503, the Computer Matching and Privacy Act of 1988 (54 FR 25818). Security safeguards include limiting access only to the files agreed to and only to agency personnel having a “need to know.” All automated records will be password protected and the data listing will be locked in file areas after normal duty hours. Records matched or created by the match will be stored in an area that is physically safe from access by unauthorized persons during normal work hours and after work, or when not in use.

E. Disposal of Records. The files will remain the property of the respective source agencies and all records including those not containing matches will be returned to the source agency for destruction. “Hits,” those records relating to matched individuals, will be disposed of in accordance with the Privacy Act and the Federal Record Schedules after serving their purpose. The data obtained from confirmed hits will be entered in the claims file, subject to release only in accordance with the provisions of the Privacy Act.

[FR Doc. 03-25946 Filed 10-14-03; 8:45 am]

BILLING CODE 6325-50-P